INTERNATIONAL TRADE COMMISSION

[Inv. No. 337-TA-619]

In the Matter of: Certain Flash Memory Controllers, Drives, Memory Cards, and Media Players and Products Containing Same; Notice of Investigation

AGENCY: U.S. International Trade Commission.

ACTION: Institution of investigation pursuant to 19 U.S.C. 1337.

SUMMARY: Notice is hereby given that a complaint was filed with the U.S. International Trade Commission on October 24, 2007, under section 337 of the Tariff Act of 1930, as amended, 19 U.S.C. 1337, on behalf of SanDisk Corporation of Milpitas, California. A supplement to the complaint was filed on November 7, 2007. The complaint, as supplemented, alleges violations of section 337 in the importation into the United States, the sale for importation, and the sale within the United States after importation of certain flash memory controllers, drives, memory cards, and media players and products containing same by reason of infringement of certain claims of U.S. Patent Nos. 6,426,893, 6,763,424, 5,719,808, 6,947,332, and 7,137,011. The complaint, as supplemented, further alleges that an industry in the United States exists as required by subsection (a)(2) of section 337.

The complainant requests that the Commission institute an investigation and, after the investigation, issue a permanent exclusion order and a permanent cease and desist order.

ADDRESSES: The complaint, as supplemented, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Christopher G. Paulraj, Esq., Office of Unfair Import Investigations, U.S. International Trade Commission, telephone (202) 205-3052.

Authority: The authority for institution of this investigation is contained in section 337 of the Tariff Act of 1930, as amended, and in section 210.10 of the Commission's Rules of Practice and Procedure, 19 CFR 210.10 (2007).

Scope of Investigation: Having considered the complaint, the U.S. International Trade Commission, on December 4, 2007, ordered that—

(1) Pursuant to subsection (b) of section 337 of the Tariff Act of 1930, as amended, an investigation be instituted to determine whether there is a violation of subsection (a)(1)(B) of section 337 in the importation into the United States, the sale for importation, or the sale within the United States after importation of certain flash memory controllers, drives, memory cards, and media players and products containing same by reason of infringement of one or more of claims 12-14, 17, 25, 27, 30, 36, 37, 39, 41, and 58 of U.S. Patent No. 6,426,893; claims 17, 18, 24, and 30 of U.S. Patent No. 6,763,424; claims 11, 14-17, 20, and 21 of U.S. Patent No. 5,719,808; claims 5 and 10 of U.S. Patent No. 6,947,332; and claim 8 of U.S. Patent No. 7,137,011, and whether an industry in the United States exists as required by subsection (a)(2) of section 337;

(2) For the purpose of the investigation so instituted, the following are hereby named as parties upon which this notice of investigation shall be served:

(a) The complainant is—

SanDisk Corporation, 601 McCarthy Boulevard, Milpitas, California 95035.

(b) The respondents are the following entities alleged to be in violation of section 337, and are the parties upon which the complaint is to be served:

Phison Electronics Corporation, 2F, No. 669, Sec. 4, Zhongxing Road, Zhudong Town, Hsinchu County, Taiwan.

Silicon Motion Technology Corporation, Silicon Motion Inc., No. 8F-1, No. 36, Taiyuan Street, Zhubei City, Hsinchu County, Taiwan.

Silicon Motion, Inc., Silicon Motion International, Inc., 1591 McCarthy Blvd., Milpitas, California 95035.

USBest Technology, Inc., 7F, No. 1, Jinshan 8th Street, East District, Hsinchu City, Taiwan.

Skymedi Corporation, 5F, No. 6, Dusing 1st Road, Hsinchu Science Park, Hsinchu, 300, Taiwan.

Chipsbrand Microelectronics (HK) Co., Ltd., 31/F The Landmark Gloucester Road, 11 Pedder St., Central District, Hong Kong Island, Hong Kong, Chipsbank Technology (Shenzhen) Co., Ltd.

Chipsbank Microelectronics Co., Ltd., No. 201-205, 2/F, Bldg. No. 4, Keji Central Road 2, Software Park, South Area High-Tech Industrial Park, Shenzhen, China 518057.

Zotek Electronic Co., Ltd., Dba Zodata Technology Limited, Rm 2502, 25/F, EW International Tower, 120 Texaco Road, Tsuen Wan, Hong Kong.

Infotech Logistic, LLC, Dba Supertron Memory, c/o USA Corporate Services Inc., 46 State Street, 3rd Floor, Albany, New York 12207.

Power Quotient International Co., Ltd., 14F, No. 16, Jian 8th Road, Zhonge City, Taipei County, Taiwan.

Power Quotient International (HK) Co., Ltd., Flat F. 4/F, Yeung Yiu Chung (No. 8) Industrial, Building, 20 Wang Hoi Road, Kowloon Bay, Kowloon, Hong Kong.

Syscom Development Co., Ltd., c/o Insigner Corporation Services (BVI) Ltd., Palm Grow Service House, PO Box 438, Road Town, Tortola, British Virgin Islands.

PQI Corporation, 46539 Fremont Blvd., Fremont, California 94538.

PNY Technologies, Inc., 299 Webro Road #2, Parsippany, New Jersey 07054-0218.

Kingston Technology Company, Inc., Kingston Technology Corporation, 17600 Newhope St., Fountain Valley, California 92708.

Payton Technology Corporation, 17600 Newhope St., Ste. B, Fountain Valley, California 92708.

MemoSun, Inc., 17600 Newhope St., Fountain Valley, California 92708.

Melco Holdings, Inc., 4-11-50, Osu, Naka-Ku, 460-0011 Nagoya, Aichi, Japan.

Buffalo, Inc., 15, Shibata hondori 4-chome, Minami-ku, Nagoya, 457-8520, Japan.

Buffalo Technology (USA), Inc., 11100 Metric Blvd., Suite 750, Austin, Texas 78758.

Verbatim Corporation, 1200 West W.T. Harris Blvd., Charlotte, North Carolina 28262.

Transcend Information Inc., No. 70, Xing Zhong Road, Nei Hu Dist., Taipei 11494, Taiwan.

Transcend Information Inc., 1645 North Brian St., Orange, California 92867.

Transcend Information Maryland, Inc., Suites Q & R, 514 Progress Drive, Linthicum, Maryland 21090.

Imation Corp., Imation Enterprises Corp., 1 Imation Place, Oakdale, Minnesota 55128.

Memorex Products, Inc., Imation Consumer Division, 17777 Center Court Drive, Suite 800, Cerritos, California 90703.

Add-On Computer Peripherals, Inc., Add-On Computer Peripherals, LLC, Dba Acp-Ep Memory, Dba Ep Memory, 34 Mauchly, Suite A, Irvine, California 92618.

Add-On Technology Co., 1F, No. 11, Lane 206, Da-An, Road Sec. 1, Taipei, Taiwan.

A-Data Technology Co., Ltd., 18F, No. 25, Liancheng Road, Zhonghe City, Taipei County, Taiwan.

A-Data Technology (USA) Co., Ltd., 3149 Skyway Court, Fremont, California 94539.

Acer, Inc., 8F, 88, Sec. 1, Xintai 5th Road, Xizhi City, Taipei County, Taiwan.

Apacer Technology Inc., 9F, 100, Sec. 1, Xintai 5th Road, Xizhi City, Taipei County, Taiwan.

Apacer Memory America, Inc., 380 Fairview Way, Milpitas, California 95035.

Behavior Tech Computer Corp., 20F-B, No. 98, Sec. 1, Xintai 5th Road., Xizhi City, Taipei County, Taiwan.

Emprex Technologies Corp., 20F, 108 Xintai 5th Road, Sec. 1, Xizhi City, Taipei County, Taiwan.

Behavior Tech Computer (USA) Corp., Dba BTC USA, 4180 Business Center Dr., Fremont, California 94538.

Corsair Memory, Inc., 46221 Landing Parkway, Fremont, California 94538.

Dane-Elec Memory S.A., 149-165 Avenue Gallieni, 93171 Bagnolet, France.

Deantusaiocht Dane-Elec TEO, Dba Dane-Elec Manufacturing, Spiddal Industrial Estate, Spiddal, Galway, Ireland.

Dane Elec Corp. USA, Dba Intervalle Corporation, Dba Dane-Elec Manufacturing USA, 15770 Laguna Canyon Road, #100, Irvine, California 92618.

EDGE Tech Corporation, Dba Peripheral Enhancements Corporation, 1310 North Hills Center, Ada, Oklahoma 74820.

Interactive Media Corp., Dba Kanguru Solutions, 3 Christina Center, 120 Jeffrey Ave, Holliston, Massachusetts 01746.

Kaser Corporation, 46711 Fremont Blvd., Fremont, California 94538.

LG Electronics, Inc., LG Twin Towers, 20 Yeouido-dong, Yeongdeungpo-gu, Seoul, Seoul 150875, Republic of Korea.

LG Electronics U.S.A., Inc., 1000 Sylvan Ave., Englewood Cliffs, New Jersey 07632.

TSR Silicon Resources Inc., 16 West 30th Street, New York, New York 10001.

Welldone Company, 1F., No. 181, Anmei Street, Neihu District, Taipei City, Taiwan.

(c) The Commission investigative attorney, party to this investigation, is Christopher G. Paulraj, Esq., Office of Unfair Import Investigations, U.S. International Trade Commission, 500 E Street, SW., Room 401P, Washington, DC 20436; and

(3) For the investigation so instituted, the Honorable Charles E. Bullock is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or cease and desist order or both directed against a respondent.

By order of the Commission.
Issued: December 6, 2007.
Marilyn R. Abbott,
Secretary to the Commission.

[FR Doc. E7-24016 Filed 12-11-07; 8:45 am]

BILLING CODE 7020-02-P